DEPARTMENT OF DEFENSE

Office of the Secretary

[Docket ID DOD-2008-OS-0155]

Privacy Act of 1974; System of Records

AGENCY: Missile Defense Agency, DoD.

ACTION: Notice to add a system of records.

SUMMARY: The Missile Defense Agency is proposing to add a system of records to its inventory of record systems subject to the Privacy Act of 1974 (5 U.S.C. 552a), as amended.

DATES: The changes will be effective on January 14, 2009 unless comments are received that would result in a contrary determination.

ADDRESSES: Send comments to the Department of Defense, Missile Defense Agency, 7100 Defense Pentagon, Attn: Chief Information Officer, Washington, DC 20301-7100.

FOR FURTHER INFORMATION CONTACT: Missile Defense Agency Privacy Office at (703) 882-6125.

SUPPLEMENTARY INFORMATION: The Missile Defense Agency notices for systems of records subject to the Privacy Act of 1974 (5 U.S.C. 552a), as amended, are published in the Federal Register and are available from the address above.

The proposed systems reports, as required by 5 U.S.C. 552a(r) of the Privacy Act of 1974, as amended, were submitted on November 10, 2008, to the House Committee on Government Oversight and Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 9, 2008.
Morgan E. Frazier,
Alternate OSD Federal Register Liaison Officer, Department of Defense.

MDA01

System name:

Missile Defense Data Center Catalog System Records.

System location:

Department of Defense, Missile Defense Agency, 7100 Defense Pentagon, ATTN: Chief Information Officer, Washington, DC 20301-7100.

Categories of individuals covered by the system:

Individuals requesting Missile Defense Agency (MDA) missile defense test data. Access to this classified data is restricted to Department of Defense (DoD) personnel and contractors with the appropriate level of security clearance and with a clear, demonstrated and approved need-to-know.

Categories of records in the system:

Individual's name, Social Security Number (SSN), citizenship, and date and place of birth of the proposed visitor; office phone number and e-mail address, and certification of the proposed visitor's personnel security clearance and certification of any special access authorizations required for the visit.

Authority for maintenance of the system:

E.O. 12958, Classified National Security Information; DoD 5220.22-M, National Industrial Security Program Operating Manual (NISPOM); Missile Defense Agency Directive 3200.06, Mission-Related Scientific and Technical Data/Information Management; Missile Defense Agency Manual 5200.02-M, Information Security Program; and E.O. 9397 (SSN).

Purpose(s):

Records are used for the purpose of determining if individuals have the appropriate level of clearance and need-to-know required before allowing them access to the Missile Defense Agency (MDA) classified test data.

Routine uses of records maintained in the system, including categories of users and the purposes of such uses:

In addition to those disclosures generally permitted under 5 U.S.C. 552a(b) of the Privacy Act, these records or information contained therein may specifically be disclosed outside the Department of Defense (DoD) as a routine use pursuant to 5 U.S.C. 552a(b)(3) as follows:

The DoD `Blanket Routine Uses' set forth at the beginning of the DoD compilation of systems of records notices also apply to this system.

Policies and practices for storing, retrieving, accessing, retaining, and disposing of records in the system:

Storage:

Paper records in file folders and on electronic media.

Retrievability:

Records are retrieved by name, e-mail address and phone number.

Safeguards:

Records are maintained in a secure, limited access, monitored work area. Physical entry by unauthorized persons is restricted by the use of locks and administrative procedures, and is accessible only to authorized personnel. Access to personal information is restricted to those who require the records in the performance of their official duties and who are properly screened and cleared for need-to-know. Access to computer records is further restricted by the use of passwords, which are changed periodically. Logs are kept and reviewed for valid access. All personnel whose official duties require access to the information are trained in the proper safeguarding and use of the information and receive annual Information Assurance and Privacy Act training. Paper records are marked “FOUO-PRIVACY ACT PROTECTED DATA” and stored in a locked container when not in use.

Retention and disposal:

Electronic images are deleted when the user account is deleted from the system. Paper copies are filed in the security office and destroyed by shredding and/or burning on supersession or obsolescence of the authorization document or on transfer, separation, or relief of the individual concerned.

System manager(s) and address:

Department of Defense, Missile Defense Agency, 7100 Defense Pentagon, Attn: Chief Information Officer, Washington, DC 20301-7100.

Notification procedure:

Individuals seeking to determine whether information about themselves is contained in this system of records should address written inquiries to the Department of Defense, Missile Defense Agency, 7100 Defense Pentagon, Attn: Chief Information Officer, Washington, DC 20301-7100.

Requests should contain the individual's name, office phone number or cell phone number, and office e-mail address for contact purposes; the individual will be contacted to verify identity.

Record access procedures: Individuals seeking to determine whether information about themselves is contained in this system of records should address written inquiries to the MDA Privacy Office, Missile Defense Agency, 7100 Defense Pentagon, Washington, DC 20301-7100.

Requests should include the requesting individual's name, office phone number or cell phone number, and office e-mail address for contact purposes; the individual will be contacted to verify identity.

Contesting record procedures:

The OSD's rules for accessing records, for contesting contents and appealing initial agency determinations are contained in OSD Administrative Instruction No. 81; 32 CFR part 311; or may be obtained from the system manager.

Record source categories:

Individuals.

Exemptions claimed for the system:

None.

[FR Doc. E8-29526 Filed 12-12-08; 8:45 am]

BILLING CODE 5001-06-P